NUCLEAR REGULATORY COMMISSION

[Docket No. 50-271]

License No. Dpr-28; Entergy Nuclear Vermont Yankee, LLC and Entergy Nuclear Operations, Inc.; Notice of Issuance of Director's Decision Under 10 CFR 2.206

Notice is hereby given that the Director, Office of Nuclear Reactor Regulation, Nuclear Regulatory Commission (NRC or Commission) has issued a Director's Decision with regard to a Petition dated December 7, 2004, filed pursuant to Title 10 of the Code of Federal Regulations (10 CFR) section 2.206 by Mr. Raymond Shadis, hereinafter referred to as the “Petitioner.” The Petition concerns the operation of the Vermont Yankee Nuclear Power Station (Vermont Yankee).

The Petition requested that the NRC take immediate action to address the degraded alert and notification system at Vermont Yankee. The Petition also requested that the NRC order Vermont Yankee to go into cold shutdown until Entergy Vermont Yankee, LLC and Entergy Nuclear Operations, Inc. (the licensee) has provided a workable emergency warning system and until the NRC has verified the operability of that system.

As the basis for his request, the Petitioner stated that the emergency warning system could not assure that the public would be notified in a timely manner should an emergency occur. The Petitioner stated that equipment and human failures over time were cumulatively sufficient to show that Vermont Yankee was operating without a functional emergency response plan.

By teleconference on January 6, 2005, the Petitioner, along with two representatives of the organization Nuclear Free Vermont, discussed the petition with the NRC's Petition Review Board. This teleconference gave the Petitioner and the licensee an opportunity to provide additional information and to clarify issues raised in the Petition.

The NRC staff sent a copy of the proposed Director's Decision to the Petitioner and to the licensee for comment by letters dated May 24, 2005. The Petitioner submitted comments by letter dated June 24, 2005, and these comments are addressed in the final Director's Decision.

The Director of the Office of Nuclear Reactor Regulation has determined that the Petitioner's request is denied. The reasons for this decision are explained in the Director's Decision pursuant to 10 CFR 2.206 (DD-05-03), the complete text of which is available for inspection at the Commission's Public Document Room, located at One White Flint North, Public File Area O1 F21, 11555 Rockville Pike (first floor), Rockville, Maryland, or electronically from the Agencywide Documents Access and Management System (ADAMS) Public Electronic Reading Room on the NRC Web site at http://www.nrc.gov/reading-rm/adams.html.

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the Director's Decision in that time.

Dated at Rockville, Maryland, this 7th day of November 2005.
For the Nuclear Regulatory Commission.
J.E. Dyer,
Director, Office of Nuclear Reactor Regulation.

[FR Doc. E5-6272 Filed 11-14-05; 8:45 am]

BILLING CODE 7590-01-P